FEDERAL COMMUNICATIONS COMMISSION

47 CFR Part 73

[DA 03-3873;MB Docket No. 03-6; RM-10595]

Radio Broadcasting Services; Garysburg and Roanoke Rapids, NC

AGENCY: Federal Communications Commission.

ACTION: Proposed rule; dismissal.

SUMMARY: This document dismisses a Petition for Rulemaking filed by MainQuad Communications, Inc. proposing to reallot Channel 272A from Roanoke Rapids, North Carolina, to Garysburg, North Carolina, as the community's second local aural transmission service, and modify the license for Station WPTM(FM) to reflect the change of community. See Notice of Proposed Rule Making, 68 FR 5861 (February 5, 2003). Petition is dismissed because MainQuad Communications, Inc. failed to file comments expressing interest in pursuing the change of community.

FOR FURTHER INFORMATION CONTACT: Victoria M. McCauley, Media Bureau, (202) 418-2180.

SUPPLEMENTARY INFORMATION: This is a synopsis of the Commission's Report and Order, MB Docket No. 03-6, adopted December 3, 2003 and released December 8, 2003. The full text of this document is available for public inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via e-mail qualexint@aol.com.

Federal Communications Commission.
John A. Karousos,
Assistant Chief, Audio Division, Media Bureau.

[FR Doc. 03-31766 Filed 12-23-03; 8:45 am]

BILLING CODE 6712-01-P